DEPARTMENT OF EDUCATION

34 CFR Part 686

[Docket ID ED-2019-OPE-0081]

RIN 1840-AD44

Teacher Education Assistance for College and Higher Education (TEACH) Grant Program

AGENCY: Office of Postsecondary Education, Department of Education.

ACTION: Announcement of implementation of certain sections of the TEACH Grant program final regulations.

SUMMARY: The Secretary announces the Department of Education's (Department) implementation of certain sections of the TEACH Grant program final regulations.

DATES: See the SUPPLEMENTARY INFORMATION section of this document for information about implementation dates.

FOR FURTHER INFORMATION CONTACT: For further information contact Sophia McArdle, Ph.D. at (202) 453-6318 or by email at: sophia.mcardle@ed.gov.

If you use a telecommunications device for the deaf (TDD) or a text telephone (TTY), call the Federal Relay Service (FRS), toll free, at 1-800-877-8339.

SUPPLEMENTARY INFORMATION:

Background

The Department published final regulations for the TEACH Grant program in the Federal Register on August 14, 2020 (85 FR 49798), and provided that the final regulations would be effective July 1, 2021. Pursuant to section 482(c) of the Higher Education Act of 1965, as amended (HEA), the Department designated the changes to 34 CFR part 686 for early implementation beginning on August 14, 2020, at the discretion of each institution or agency, as appropriate. The Department further indicated that it would implement the regulations as soon as possible after the implementation date and would publish a separate notification announcing the timing of the implementation. Otherwise, the final regulations would be effective July 1, 2021.

Implementation

Pursuant to the final regulations, the Department announces that as of July 1, 2021, the following are available to implement the changes to 34 CFR part 686:

Forms:

• Updated Agreement to Serve or Repay

• TEACH Grant Certification of Qualifying Teaching

• TEACH Grant Service Obligation Suspension Request: Enrollment in a Qualifying Program or Completing Teacher Licensure Requirements

• TEACH Grant Service Obligation Suspension Request: Family and Medical Leave Act (FMLA) Condition

• TEACH Grant Service Obligation Suspension Request: Military Spouse

• TEACH Grant Service Obligation Suspension Request: Residing or Being Employed in a Federally Declared Major Disaster Area

• TEACH Grant Service Obligation Suspension/Discharge Request: Military Service

Notices:

• An annual notice to TEACH Grant recipients provided by the Secretary that contains the information required in § 686.43(a)(2)

• A notice of the date by which a TEACH Grant recipient must submit documentation showing that the recipient is satisfying the obligation on or about 90 days before the date that a grant recipient's TEACH Grants would be converted to Direct Unsubsidized Loans

• A notice to a TEACH Grant recipient of a conversion of a TEACH Grant to a Direct Unsubsidized Loan

Counseling materials

• Updated online initial, subsequent, and exit counseling

• Conversion counseling

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Michelle Asha Cooper,
Acting Assistant Secretary for Postsecondary Education.

[FR Doc. 2021-14359 Filed 7-7-21; 8:45 am]

BILLING CODE 4000-01-P